NATIONAL SCIENCE FOUNDATION

Agency Information Collection Activities: Comment Request; U.S. National Science Foundation (NSF) Small Business Innovation Research (SBIR) Program Phase I, NSF Small Business Technology Transfer (STTR) Program Phase I, and NSF SBIR/STTR Fast Track Pre-Submission Project Pitch Forms

AGENCY: National Science Foundation.

ACTION: Notice.

SUMMARY: The U.S. National Science Foundation (NSF) is announcing plans to renew this collection. In accordance with the requirements of the Paperwork Reduction Act of 1995, we are providing opportunity for public comments on this action. After obtaining and considering public comment, NSF will prepare the submission requesting Office of Management and Budget (OMB) clearance of this collection for no longer than 3 years.

DATES: Written comments on this notice must be received by December 2, 2025 to be assured consideration. Comments received after that date will be considered to the extent practicable. Send comments to address below.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: U.S. National Science Foundation (NSF) Small Business Innovation Research (SBIR) Program Phase I, NSF Small Business Technology Transfer (STTR) Program Phase I, and NSF SBIR/STTR Fast Track Pilot Pre-Submission Project Pitch Form.

OMB Control No.: 3145-0282.

Expiration Date of Approval: December 31, 2025.

Abstract: The NSF Small Business Innovation Research Program (SBIR)Phase I, Small Business Technology Transfer Program (STTR) Phase I, and SBIR/STTR Fast-Track Pilot Project Pitch is an NSF SBIR/STTR pre-submission process that conveys information needed to direct the proposed SBIR/STTR project to the appropriate NSF Program Director (PD) for review and possible proposal submission invitation. The Project Pitch is to be submitted by the applying small business concern (as “proposer”) to the relevant NSF SBIR/STTR Phase I or Fast-Track Pilot technology topic. The Project Pitch outlines solicitation specific aspects of the project (such as the proposed technology innovation) and captures the same requested information, as outlined in the NSF SBIR/STTR Phase I and Fast-Track Program solicitations, but all within one secure, web-based form. Specifically, the form collects the submitting proposer company and team information, the proposed technology innovation; the technical objectives and challenges, and the market opportunity. The form also allows the proposer to choose (from a drop-down menu) the most relevant NSF SBIR/STTR Phase I and Fast-Track Pilot technical topic area, ensuring that the submitted Project Pitch goes to the most appropriate Program Director. For the SBIR/STTR Fast-Track Pilot submission, the Project Pitch encompasses the same questions as outlined in the Phase I Project Pitch but also seeks responses to three key eligibility requirements: NSF lineage, customer-discovery experience, and confirmation that the team members are currently employed by the company. These requirements expand on the details of the previously required information on the proposed technology innovation, the market opportunity, and the company and team, respectively.

Respondents: The respondents are typically Principal Investigators (PIs) at universities, founders, co-founders, and/or other key personnel of the small businesses. The data collection burden to the applicants will be between 1-2 hours of the respondents' time in each instance.

Estimated Number of Annual Responses: 18,000-23,000.

Burden on the Public: The overall annualized cost to the respondents is estimated to be between $954,000 and 2,438,000. The following table shows the annualized estimate of costs to PIs who are generally university professors. This estimated hourly rate is based on a report from the American Association of University Professors, “Annual Report on the Economic Status of the Profession, 2022-23,” Academe, March-April 2021, Survey Report Table 1. According to this report— https://www.aaup.org/file/ARES-2022-23.pdf, the average salary of an associate professor across all types of doctoral-granting institutions (public, private-independent, religiously affiliated) was $110,945. When divided by the number of standard annual work hours (2,080), this calculates to approximately $53 per hour.

Respondent type | Number of responses | Burden hours per respondent | Average hourly rate | Estimated annual cost
PIs,(co-) Founders, Business Partners | 18,000-23,000 | 1-2 | $53 | $954,000-$2,438,000

Dated: September 30, 2025.
Suzanne H. Plimpton,
Reports Clearance Officer, National Science Foundation.

[FR Doc. 2025-19400 Filed 10-2-25; 8:45 am]

BILLING CODE 7555-01-P